DEPARTMENT OF THE INTERIOR

Bureau of Land Management

[WO-830-1030-XP-2-24 1A]

OMB Approval Number 1004-0181 Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On June 15, 2001, the BLM published a notice in the Federal Register (66 FR 32637) requesting comments on this proposed collection. The comment period ended on August 14, 2001. The BLM received two comments in response to that notice. You may obtain copies of the proposed collection of information, related forms, public comments, and any other explanatory material by contacting the BLM Information Collection Clearance Officer at the telephone number listed below.

The OMB is required respond to this request to this request within 60 days buy my respond after 30 days. For maximum consideration your comments and suggestions on the requirement should be made within 30 days directly to the Office of Management and Budget, Interior Department Desk Officer (1004-0181), Office of Information and Regulatory Affairs, Washington, DC 20503. Please provide a copy of your comments to the Bureau Information Collection Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Generic Clearance for Customer Surveys.

OMB Approval Number: 1004-0181.

Bureau Form Number: Not Applicable.

Abstract: The Bureau of Land Management will conduct customer surveys to determine the satisfaction of its customers with its programs and services. The anticipated programs/customers to survey are: Wild Horse and Burro, Grazing Permittees, Information Access Center Users, Land Management Transactions, Mining Claimants, Oil and Gas Lessees, Recreation and Education Users, Recreation Permits, Rights-of-Way Applicants, and Fire and Aviation.

We will use the data to identify:

(1) Service needs of customers;

(2) Strengths and weaknesses of services;

(3) Ideas or suggestions for improvement of service from BLM customers;

(4) Barriers to achieving customers services standards; and

(5) Changes to customer service standards.

Frequency: Once when surveyed.

Description of Respondents: General customers of the BLM for its programs and services.

Estimated Completion Time: 15 minutes per response.

Annual Responses: 13,000

Application Fee Per Response: 0.

Annual Burden Hours: 3,250.

Bureau Clearance Officer: Michael Schwartz, (202) 452-5033.

Dated: October 2, 2001.
Michael H. Schwartz,
BLM Information Collection Clearance Officer.

[FR Doc. 01-28933 Filed 11-19-01; 8:45 am]

BILLING CODE 4310-84-M